ENVIRONMENTAL PROTECTION AGENCY

[FRL-7398-3]

Proposed Prospective Purchaser Agreement under CERCLA for the Midwest Portland Cement Superfund Site

AGENCY: United States Environmental Protection Agency (“USEPA”).

ACTION: Proposal of CERCLA prospective purchaser agreement for the Midwest Portland Cement Superfund Site.

SUMMARY: USEPA is proposing to execute a Prospective Purchaser Agreement (“PPA”) under authority of the Comprehensive Environmental Response, Compensation, and Liability Act of 1980 (“CERCLA”), 42 U.S.C. 9601 et seq., as amended, and under the inherent authority of the Attorney General of the United States to compromise and settle claims of the United States, for the transfer of title to property at the Midwest Portland Cement Superfund Site, located in East Fultonham, Ohio, to a purchaser who will obtain title to the Site through the judicial sale process. The PPA is intended to resolve the liability under CERCLA of the purchaser for costs incurred by USEPA in conducting response actions at the Site. In return for a covenant not to sue and contribution protection from USEPA, subject to standard reservations of rights, the purchaser will pay $350,000 in reimbursement of USEPA's response costs.

The Site was operated by the Midwest Portland Cement Company (“MPC”) as a cement manufacturing and limestone mining facility until ceasing operations in March, 1993. USEPA's response action at the Site was completed on January 20, 1998. The Site is not on the National Priorities List. No further response activities by USEPA are anticipated at the Site at this time. The MPC estate is being liquidated under Chapter 7 of the Bankruptcy Code in the United States Bankruptcy Court for the Western District of Pennsylvania (Case No. 97-23098-JLC). MPC's real estate was the subject of a judicial sale that took place on June 18, 2002.

DATES: Comments on this proposed PPA must be received by November 25, 2002.

ADDRESSES: A copy of the proposed PPA is available for review at USEPA, Region 5, 77 West Jackson Boulevard, Chicago, Illinois 60604. Please contact Kevin C. Chow at (312) 353-6181, prior to visiting the Region 5 office. Comments on the proposed PPA should be addressed to Kevin C. Chow, Office of Regional Counsel (C-14J), USEPA, Region 5, 77 West Jackson Boulevard, Chicago, Illinois 60604.

FOR FURTHER INFORMATION CONTACT: Kevin C. Chow, Office of Regional Counsel, at (312) 353-6181.

SUPPLEMENTARY INFORMATION: In accordance with CERCLA, notice is hereby given of a proposed Prospective Purchaser Agreement concerning the Midwest Portland Cement Superfund Site, located at 6400 Maysville Pike, East Fultonham, Muskingum County, Ohio. The proposed PPA has been signed and approved by USEPA and the Department of Justice, subject to review by the public pursuant to this Notice. The purchaser—Belmont Leasing, Inc. (“Belmont Leasing”)—participated in the judicial sale of the Site and successfully bid for title to the property. Belmont Leasing will be required to execute the signature page for the PPA at the closing of the sale. Under the proposed PPA, the Settling Respondent will pay $350,000 in reimbursement of USEPA's response costs, and will provide for the productive re-use of the property. In addition, the Settling Respondent will: provide future access to the Site; exercise due care with respect to any existing contamination; covenant not to sue USEPA; cooperate with USEPA and the State of Ohio; comply with all relevant environmental laws and regulations, including conducting closure of any remaining hazardous waste management units identified by the Ohio Environmental Protection Agency (“OEPA”) by meeting OEPA's closure performance standards in Ohio Administrative Code 3745-66-12 through 3745-66-20; and put notice of the PPA in the title records for the MPC real estate. USEPA believes the PPA is fair and in the public interest.

A 30-day period, beginning on the date of publication of this Notice, is open for comments on the proposed Prospective Purchaser Agreement.

William E. Muno,
Director, Superfund Division, United States Environmental Protection Agency, Region 5.

[FR Doc. 02-27131 Filed 10-23-02; 8:45 am]

BILLING CODE 6560-50-P